DEPARTMENT OF STATE

[Public Notice: 11216]

Updating the State Department's List of Entities and Subentities Associated With Cuba (Cuba Restricted List)

ACTION: Updated publication of list of entities and subentities; notice.

SUMMARY: The Department of State is publishing an update to its List of Restricted Entities and Subentities Associated with Cuba (Cuba Restricted List) with which direct financial transactions are generally prohibited under the Cuban Assets Control Regulations (CACR). The Department of Commerce's Bureau of Industry and Security (BIS) generally will deny applications to export or reexport items for use by entities or subentities on the Cuba Restricted List.

DATES: September 29, 2020.

FOR FURTHER INFORMATION CONTACT: Emily Belson, Office of Economic Sanctions Policy and Implementation, 202-647-6526; Robert Haas, Office of the Coordinator for Cuban Affairs, tel.: 202-453-8456, Department of State, Washington, DC 20520.

SUPPLEMENTARY INFORMATION:

Background

On June 16, 2017, the President signed National Security Presidential Memorandum-5 on Strengthening the Policy of the United States Toward Cuba (NSPM-5). As directed by NSPM-5, on November 9, 2017, the Department of the Treasury's Office of Foreign Assets Control (OFAC) published a final rule in the Federal Register amending the CACR, 31 CFR part 515, and the Department of Commerce's Bureau of Industry and Security (BIS) published a final rule in the Federal Register amending, among other sections, the section of the Export Administration Regulations (EAR) regarding Cuba, 15 CFR 746.2. The regulatory amendment to the CACR added § 515.209, which generally prohibits direct financial transactions with certain entities and subentities identified on the State Department's Cuba Restricted List. The regulatory amendment to 15 CFR 746.2, notes BIS will generally deny applications to export or re-export items for use by entities or subentities identified on the Cuba Restricted List. The State Department is now updating the Cuba Restricted list, as published below and available on the State Department's website (https://www.state.gov/cuba-sanctions/cuba-restricted-list/)

This update includes one additional subentity and an alias thereof. This is the seventh update to the Cuba Restricted List since it was published November 9, 2017 (82 FR 52089). Previous updates were published November 15, 2018 (see 83 FR 57523), March 9, 2019 (see 84 FR 8939), April 24, 2019 (see 84 FR 17228), July 26, 2019 (see 84 FR 36154), November 19, 2019 (see 84 FR 63953), June 12, 2020 (see 85 FR 35972), and a correction June 19, 2020 (85 FR 37146). The State Department will continue to update the Cuba Restricted List periodically.

The publication of the updated Cuba Restricted List further implements the directive in paragraph 3(a)(i) of NSPM-5 for the Secretary of State to identify the entities or subentities, as appropriate, that are under the control of, or act for or on behalf of, the Cuban military, intelligence, or security services or personnel, and publish a list of those identified entities and subentities with which direct financial transactions would disproportionately benefit such services or personnel at the expense of the Cuban people or private enterprise in Cuba.

Electronic Availability

This document and additional information concerning the Cuba Restricted List are available from the Department of State's website (https://www.state.gov/cuba-sanctions/cuba-restricted-list/).

List of Restricted Entities and Subentities Associated With Cuba as of September 29, 2020

Below is the U.S. Department of State's list of entities and subentities under the control of, or acting for or on behalf of, the Cuban military, intelligence, or security services or personnel with which direct financial transactions would disproportionately benefit such services or personnel at the expense of the Cuban people or private enterprise in Cuba. For information regarding the prohibition on direct financial transactions with these entities, please see 31 CFR 515.209. All entities and subentities were listed effective November 9, 2017, unless otherwise indicated.

* * * Entities or subentities owned or controlled by another entity or subentity on this list are not treated as restricted unless also specified by name on the list. * * *

Ministries

MINFAR—Ministerio de las Fuerzas Armadas Revolucionarias

MININT—Ministerio del Interior

Holding Companies

CIMEX—Corporación CIMEX S.A.

Compañía Turística Habaguanex S.A.

GAESA—Grupo de Administración Empresarial S.A.

Gaviota—Grupo de Turismo Gaviota

UIM—Unión de Industria Militar

Hotels in Havana and Old Havana

Aparthotel Montehabana

Gran Hotel Bristol Kempinski Effective November 15, 2019

Gran Hotel Manzana Kempinski

H10 Habana Panorama

Hostal Valencia

Hotel Ambos Mundos

Hotel Armadores de Santander

Hotel Beltrán de Santa Cruz

Hotel Conde de Villanueva

Hotel del Tejadillo

Hotel el Bosque

Hotel el Comendador

Hotel el Mesón de la Flota

Hotel Florida

Hotel Habana 612

Hotel Kohly

Hotel Los Frailes

Hotel Marqués de Prado Ameno

Hotel Marqués de Cardenas de Montehermoso Effective June 12, 2020

Hotel Palacio Cueto Effective July 26, 2019

Hotel Palacio del Marqués de San Felipe y Santiago de Bejucal

Hotel Palacio O'Farrill

Hotel Park View

Hotel Raquel

Hotel Regis Effective June 12, 2020

Hotel San Miguel

Hotel Santa Isabel Effective April 24, 2019

Hotel Telégrafo

Hotel Terral

Iberostar Grand Packard Hotel Effective November 15, 2018

Memories Miramar Havana

Memories Miramar Montehabana

SO/Havana Paseo del Prado Effective November 15, 2018

Hotels in Santiago de Cuba

Villa Gaviota Santiago

Hotels in Varadero

Blau Marina Varadero Resort

also Fiesta Americana Punta Varadero Effective November 15, 2018

also Fiesta Club Adults Only Effective March 12, 2019

Grand Aston Varadero Resort Effective November 15, 2019

Grand Memories Varadero

Hotel El Caney Varadero Effective April 24, 2019

Hotel Las Nubes Effective November 15, 2018

Hotel Oasis Effective November 15, 2018

Iberostar Bella Vista Effective November 15, 2018

Iberostar Laguna Azul

Iberostar Playa Alameda

Meliá Marina Varadero

Meliá Marina Varadero Apartamentos Effective April 24, 2019

Meliá Peninsula Varadero

Memories Varadero

Naviti Varadero

Ocean Varadero El Patriarca

Ocean Vista Azul

Paradisus Princesa del Mar

Paradisus Varadero

Sol Sirenas Coral

Hotels in Pinar del Rio

Hotel Villa Cabo de San Antonio

Hotel Villa Maria La Gorda y Centro Internacional de Buceo

Hotels in Baracoa

Hostal 1511

Hostal La Habanera

Hostal La Rusa

Hostal Rio Miel

Hotel El Castillo

Hotel Porto Santo

Villa Maguana

Hotels in Cayos de Villa Clara

Angsana Cayo Santa María Effective November 15, 2018

Dhawa Cayo Santa María

Grand Aston Cayo Las Brujas Beach Resort and Spa Effective November 19, 2019

Golden Tulip Aguas Claras Effective November 15, 2018

Hotel Cayo Santa María

Hotel Playa Cayo Santa María

Iberostar Ensenachos

Las Salinas Plana & Spa Effective November 15, 2018

La Salina Noreste Effective November 15, 2018

La Salina Suroeste Effective November 15, 2018

Meliá Buenavista

Meliá Cayo Santa María

Meliá Las Dunas

Memories Azul

Memories Flamenco

Memories Paraíso

Ocean Casa del Mar

Paradisus Los Cayos Effective November 15, 2018

Royalton Cayo Santa María

Sercotel Experience Cayo Santa María Effective November 15, 2018

Sol Cayo Santa María

Starfish Cayo Santa María Effective November 15, 2018

Valentín Perla Blanca Effective November 15, 2018

Villa Las Brujas

Warwick Cayo Santa María also Labranda Cayo Santa María Hotel Effective November 15, 2018

Hotels in Holguín

Blau Costa Verde Beach & Resort also Fiesta Americana Holguín Costa Verde Effective November 15, 2018

Hotel Playa Costa Verde

Hotel Playa Pesquero

Memories Holguín

Paradisus Río de Oro Resort & Spa

Playa Costa Verde

Playa Pesquero Premium Service

Sol Rio de Luna y Mares

Villa Cayo Naranjo

Villa Cayo Saetia

Villa Pinares de Mayari

Hotels in Jardines del Rey

Cayo Guillermo Resort Kempinski Effective July 26, 2019

Grand Muthu Cayo Guillermo Effective November 15, 2018

Gran Muthu Imperial Hotel Effective November 15, 2019

Gran Muthu Rainbow Hotel Effective November 15, 2019

Hotel Playa Coco Plus

Iberostar Playa Pilar

Meliá Jardines del Rey

Memories Caribe

Pestana Cayo Coco also Hotel Playa Paraiso Effective June 12, 2020

Hotels in Topes de Collantes

Hostal Los Helechos

Kurhotel Escambray Effective November 15, 2018

Los Helechos

Villa Caburni

Tourist Agencies

Crucero del Sol

Gaviota Tours

Marinas

Marina Gaviota Cabo de San Antonio (Pinar del Rio)

Marina Gaviota Cayo Coco (Jardines del Rey)

Marina Gaviota Las Brujas (Cayos de Villa Clara)

Marina Gaviota Puerto Vita (Holguín)

Marina Gaviota Varadero (Varadero)

Stores in Old Havana

Casa del Abanico

Colección Habana

Florería Jardín Wagner

Joyería Coral Negro—Additional locations throughout Cuba

La Casa del Regalo

San Ignacio 415

Soldadito de Plomo

Tienda El Navegante

Tienda Muñecos de Leyenda

Tienda Museo El Reloj Cuervo y Sobrinos

Entities Directly Serving the Defense and Security Sectors

ACERPROT—Agencia de Certificación y Consultoría de Seguridad y Protección Alias Empresa de Certificación de Sistemas de Seguridad y Protección Effective November 15, 2018

AGROMIN—Grupo Empresarial Agropecuario del Ministerio del Interior

APCI—Agencia de Protección Contra Incendios

CAHOMA—Empresa Militar Industrial Comandante Ernesto Che Guevara Casa Editorial Verde Olivo Effective July 26, 2019

CASEG—Empresa Militar Industrial Transporte Occidente

CID NAV—Centro de Investigación y Desarrollo Naval

CIDAI—Centro de Investigación y Desarrollo de Armamento de Infantería

CIDAO—Centro de Investigación y Desarrollo del Armamento de Artillería e Instrumentos Ópticos y Ópticos Electrónicos

CORCEL—Empresa Militar Industrial Emilio Barcenas Pier

CUBAGRO—Empresa Comercializadora y Exportadora de Productos Agropecuarios y Agroindustriales

DATYS—Empresa Para El Desarrollo De Aplicaciones, Tecnologías Y Sistemas

DCM TRANS—Centro de Investigación y Desarrollo del Transporte

DEGOR—Empresa Militar Industrial Desembarco Del Granma

DSE—Departamento de Seguridad del Estado Editorial Capitán San Luis Effective July 26, 2019

EMIAT—Empresa Importadora Exportadora de Abastecimientos Técnicos

Empresa Militar Industrial Astilleros Astimar

Empresa Militar Industrial Astilleros Centro

Empresa Militar Industrial Yuri Gagarin

ETASE—Empresa de Transporte y Aseguramiento

Ferretería TRASVAL

GELCOM—Centro de Investigación y Desarrollo Grito de Baire Impresos de Seguridad

MECATRONICS—Centro de Investigación y Desarrollo de Electrónica y Mecánica

NAZCA—Empresa Militar Industrial Granma

OIBS—Organización Integración para el Bienestar Social

PLAMEC—Empresa Militar Industrial Ignacio Agramonte

PNR—Policía Nacional Revolucionaria

PROVARI—Empresa de Producciones Varias

SEPSA—Servicios Especializados de Protección

SERTOD—Servicios de Telecomunicaciones a los Órganos de la Defensa Effective November 15, 2018

SIMPRO—Centro de Investigación y Desarrollo de Simuladores

TECAL—Empresa de Tecnologías Alternativas

TECNOPRO—Empresa Militar Industrial “G.B. Francisco Cruz Bourzac”

TECNOTEX—Empresa Cubana Exportadora e Importadora de Servicios, Artículos y Productos Técnicos Especializados

TGF—Tropas de Guardafronteras

UAM—Unión Agropecuaria Militar

ULAEX—Unión Latinoamericana de Explosivos

XETID—Empresa de Tecnologías de la Información Para La Defensa

YABO—Empresa Militar Industrial Coronel Francisco Aguiar Rodríguez

Additional Subentities of CIMEX

ADESA/ASAT—Agencia Servicios Aduanales (Customs Services)

American International Services (Remittances) Effective September 29, 2020

alias AIS Remesas Effective September 29, 2020

Cachito (Beverage Manufacturer)

Contex (Fashion)

Datacimex

ECUSE—Empresa Cubana de Servicios

FINCIMEX Effective June 19, 2020

Inmobiliaria CIMEX (Real Estate)

Inversiones CIMEX

Jupiña (Beverage Manufacturer)

La Maisón (Fashion)

Najita (Beverage Manufacturer)

Publicitaria Imagen (Advertising)

Residencial Tarara S.A. (Real Estate/Property Rental) Effective November 15, 2018

Ron Caney (Rum Production)

Ron Varadero (Rum Production)

Telecable (Satellite Television)

Tropicola (Beverage Manufacturer)

Zona Especializada de Logística y Comercio (ZELCOM)

Additional Subentities of GAESA

Aerogaviota Effective April 24, 2019

Almacenes Universales (AUSA)

ANTEX—Corporación Antillana Exportadora

Compañía Inmobiliaria Aurea S.A. Effective November 15, 2018

Dirección Integrada Proyecto Mariel (DIP)

Empresa Inmobiliaria Almest (Real Estate)

GRAFOS (Advertising)

RAFIN S.A. (Financial Services)

Sociedad Mercantin Inmobiliaria Caribe (Real Estate)

TECNOIMPORT

Terminal de Contenedores de la Habana (TCH)

Terminal de Contenedores de Mariel, S.A.

UCM—Unión de Construcciones Militares

Zona Especial de Desarrollo Mariel (ZEDM)

Zona Especial de Desarrollo y Actividades Logísticas (ZEDAL)

Additional Subentities of Gaviota

AT Comercial

Centro de Buceo Varadero Effective June 12, 2020

Centro Internacional de Buceo Gaviota Las Molas Effective June 12, 2020

Delfinario Cayo Naranjo Effective June 12, 2020

Diving Center—Marina Gaviota Effective April 24, 2019

Gaviota Hoteles Cuba Effective March 12, 2019

Hoteles Habaguanex Effective March 12, 2019

Hoteles Playa Gaviota Effective March 12, 2019

Manzana de Gomez

Marinas Gaviota Cuba Effective March 12, 2019

PhotoService

Plaza La Estrella Effective November 15, 2018

Plaza Las Dunas Effective November 15, 2018

Plaza Las Morlas Effective November 15, 2018

Plaza Las Salinas Effective November 15, 2018

Plaza Las Terrazas del Atardecer Effective November 15, 2018

Plaza Los Flamencos Effective November 15, 2018

Plaza Pesquero Effective November 15, 2018

Producciones TRIMAGEN S.A. (Tiendas Trimagen)

Additional Subentities of Habaguanex

Sociedad Mercantil Cubana Inmobiliaria Fenix S.A. (Real Estate)

* * Activities in parentheticals are intended to aid in identification, but are only representative. All activities of listed entities and subentities are subject to the applicable prohibitions.* *

Peter Haas,
Acting Assistant Secretary, Bureau of Economic and Business Affairs, Department of State.

[FR Doc. 2020-21449 Filed 9-28-20; 8:45 am]

BILLING CODE 4710-29-P